FEDERAL COMMUNICATIONS COMMISSION

Notice of Public Information Collection(s) Being Reviewed by the Federal Communications Commission for Extension Under Delegated Authority, Comments Requested

March 7, 2002.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Persons wishing to comment on this information collection should submit comments May 14, 2002. If you anticipate that you will be submitting comments, but find it difficult to do so within the period of time allowed by this notice, you should advise the contact listed below as soon as possible.

ADDRESSES: Direct all comments to Judy Boley Herman, Federal Communications Commission, 445 12th Street, SW., Room 1-C804, Washington, DC 20554 or via the Internet to jbherman@fcc.gov.

FOR FURTHER INFORMATION CONTACT: For additional information or copies of the information collections contact Judy Boley Herman at 202-418-0214 or via the Internet at jbherman@fcc.gov.

SUPPLEMENTARY INFORMATION:

OMB Control No.: 3060-0243.

Title: Section 74.551, Equipment Changes.

Form No.: N/A.

Type of Review: Extension of a currently approved collection.

Respondents: Business or other for profit.

Number of Respondents: 1.

Estimated Time Per Response: 1 hour.

Total Annual Burden: 1 hour.

Annual Reporting and Recordkeeping Cost Burden: $0.

Frequency of Response: On occasion reporting requirement.

Needs and Uses: Section 74.551(b) requires licensees of aural broadcast studio transmitter links (STL) or intercity relay stations to notify the Commission in writing of minor changes that can be made without prior Commission authorization upon completion of such changes. The data is used by FCC staff to assure that the changes made comply with FCC rules and regulations.

OMB Control No.: 3060-0245.

Title: Section 74.537, Temporary Authorizations.

Form No.: N/A.

Type of Review: Extension of a currently approved collection.

Respondents: Business or other for profit.

Number of Respondents: 12.

Estimated Time Per Response: 2 hours.

Total Annual Burden: 21 hours.

Annual Reporting and Recordkeeping Cost Burden: $0.

Frequency of Response: On occasion reporting requirement.

Needs and Uses: Section 74.537 requires licensees of an aural broadcast studio transmitter link (STL) or intercity relay station to file an informal request for special temporary authorization for operations of a temporary nature. The data is used by FCC staff to insure that the temporary operation of a STL or intercity relay station will not cause interference to existing stations.

OMB Control No.: 3060-0290.

Title: Section 90.517, Report of Operation.

Form No.: N/A.

Type of Review: Extension of a currently approved collection.

Respondents: Business or other for profit, state, local or tribal government.

Number of Respondents: 100.

Estimated Time Per Response: 2 hours.

Total Annual Burden: 200 hours.

Annual Reporting and Recordkeeping Cost Burden: $0.

Frequency of Response: On occasion reporting requirement.

Needs and Uses: Section 90.517 provides developmental authorizations that are usually employed licensees who wish to test and develop new use of radiocommunications facilities. Each such developmental licensee must report upon termination of development, or application for license renewal, specific information evaluating the usefulness of previous or desired continued operation of such a system. Commission personnel use the data to evaluate the need for renewal of the applicant's authorization. This information is also used by policy-making personnel to decide the desirability of instituting rulemaking proceedings involving new technologies or new uses of the radio spectrum.

OMB Control No.: 3060-0434.

Title: Section 90.207(e)(6), Stolen Vehicle Recovery System Requirements.

Form No.: N/A.

Type of Review: Extension of a currently approved collection.

Respondents: Business or other for profit.

Number of Respondents: 20.

Estimated Time Per Response: 4 hours.

Total Annual Burden: 80 hours.

Annual Reporting and Recordkeeping Cost Burden: $0.

Frequency of Response: On occasion reporting requirement.

Needs and Uses: Applications for base stations operating on a particular frequency shall require coordination with the Federal Government. Applicants shall perform an analysis for each base station located with 169 km (105 miles) of a TV channel 7 transmitter of potential interference to TV channel 7 viewers. Applicants will have to certify to certain requirements set out in rule section 90.20(e)(6).

OMB Control No.: 3060-0537.

Title: Section 13.217, Records.

Form No.: N/A.

Type of Review: Extension of a currently approved collection.

Respondents: Business or other for profit.

Number of Respondents: 15.

Estimated Time Per Response: 1 hour.

Total Annual Burden: 15 hours.

Annual Reporting and Recordkeeping Cost Burden: $0.

Frequency of Response: Recordkeeping requirement.

Needs and Uses: Each COLEM recovering fees from examinees must maintain records of expenses and revenues, frequency of examinations administered, and examination pass rates. Records must cover the period from January 1 to December 31 of the preceding year and must be submitted as directed by the Commission. Each COLEM must retain records for 1 year and the records must be made available to the FCC upon request.

Federal Communications Commission.
William F. Caton,
Acting Secretary.

[FR Doc. 02-6314 Filed 3-14-02; 8:45 am]

BILLING CODE 6712-01-P